FEDERAL MARITIME COMMISSION

Ocean Transportation Intermediary License Reissuance

Notice is hereby given that the following Ocean Transportation Intermediary licenses have been reissued by the Federal Maritime Commission pursuant to section 19 of the Shipping Act of 1984 (46 U.S.C. Chapter 409) and the regulations of the Commission pertaining to the licensing of Ocean Transportation Intermediaries, 46 CFR part 515.

License No. | Name/address | Date reissued
018182NF | Sea-Line-Cargo, Inc., 202 Port Jersey Blvd., Jersey City, NJ 07305 | February 27, 2010.
021925F | AAA International Shipping, LLC, 509 Largovista Drive, Oakland, FL 34787 | February 19, 2010.

Sandra L. Kusumoto,
Director, Bureau of Certification and Licensing.

[FR Doc. 2010-7273 Filed 3-31-10; 8:45 am]

BILLING CODE P